DEPARTMENT OF JUSTICE

Drug Enforcement Administration

[Docket No. DEA-392]

Importer of Controlled Substances Registration

ACTION: Notice of registration.

SUMMARY: Registrants listed below have applied for and been granted registration by the Drug Enforcement Administration as importers of various classes of schedule I or II controlled substances.

SUPPLEMENTARY INFORMATION: The companies listed below applied to be registered as importers of various basic classes of controlled substances. Information on previously published notices is listed in the table below. No comments or objections were submitted and no requests for hearing were submitted for these notices.

Company | FR Docket | Published
Almac Clinical Services Incorp (ACSI) | 82 FR 37114 | August 8, 2017.
Stepan Company | 82 FR 41054 | August 29, 2017.
Fresenius Kabi USA, LLC | 82 FR 41053 | August 29, 2017.
Cambrex Charles City | 82 FR 41055 | August 29, 2017.
Spex Certiprep Group, LLC | 82 FR 42120 | September 6, 2017.
Akorn, Inc | 82 FR 42117 | September 6, 2017.
Fisher Clinical Services, Inc | 82 FR 42121 | September 6, 2017.
Siegfried USA, LLC | 82 FR 42117 | September 6, 2017.
Mylan Pharmaceuticals, Inc | 82 FR 42120 | September 6, 2017.
KVK-Tech, Inc | 82 FR 42119 | September 6, 2017.
Cerilliant Corporation | 82 FR 43404 | September 15, 2017.
Unither Manufacturing LLC | 82 FR 43571 | September 18, 2017.
Mylan Pharmaceuticals, Inc | 82 FR 43572 | September 18, 2017.
Catalent Centers, LLC | 82 FR 43569 | September 18, 2017.
Specgx LLC | 82 FR 43571 | September 18, 2017.
Sharp Clinical Services, Inc | 82 FR 43572 | September 18, 2017.
Cody Laboratories, Inc | 82 FR 45612 | September 29, 2017.
Bellwyck Clinical Services | 82 FR 45613 | September 29, 2017.

The Drug Enforcement Administration (DEA) has considered the factors in 21 U.S.C. 823, 952(a) and 958(a) and determined that the registration of the listed registrants to import the applicable basic classes of schedule I or II controlled substances is consistent with the public interest and with United States obligations under international treaties, conventions, or protocols in effect on May 1, 1971. The DEA investigated each company's maintenance of effective controls against diversion by inspecting and testing each company's physical security systems, verifying each company's compliance with state and local laws, and reviewing each company's background and history.

Therefore, pursuant to 21 U.S.C. 952(a) and 958(a), and in accordance with 21 CFR 1301.34, the DEA has granted a registration as an importer for schedule I or II controlled substances to the above listed persons.

Dated: November 16, 2017.
Demetra Ashley,
Acting Assistant Administrator.

[FR Doc. 2017-25284 Filed 11-21-17; 8:45 am]

BILLING CODE 4410-09-P